DEPARTMENT OF ENERGY

Federal Energy Regulatory Commission

[Docket Nos. CP15-22-000; CP15-24-000]

Dominion Cove Point LNG, LP; Notice of Extension of Comment Period for the St. Charles Transportation and Keys Energy Projects

On January 5, 2015, the Federal Energy Regulatory Commission (FERC or Commission) issued a Notice of Intent (NOI) to Prepare an Environmental Assessment for the Proposed St. Charles Transportation and Keys Energy Projects and Request for Comments on Environmental Issues. The notice solicited comments on the potential environmental impacts of the planned project, and listed the close of the public comment period as February 4, 2015.

Due to a limited printing delay in the mailing of the notice, we are extending the comment period. Please note that the scoping period will now close on February 20, 2015.

Please refer to the NOI for how to participate in the environmental proceeding.

Dated: January 23, 2015.
Kimberly D. Bose,
Secretary.

[FR Doc. 2015-01731 Filed 1-30-15; 8:45 am]

BILLING CODE 6717-01-P